DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: June 15, 2023, 10:00 a.m.

PLACE: Room 2C, 888 First Street NE, Washington, DC 20426.

STATUS: Open to the public.

MATTERS TO BE CONSIDERED: Agenda. * Note—Items listed on the agenda may be deleted without further notice.

CONTACT PERSON FOR MORE INFORMATION: Kimberly D. Bose, Secretary. Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1102nd—MEETING
[Open Meeting; June 15, 2023, 10:00 a.m.]
Item No. | Docket No. | Company
Administrative
A-1 | AD23-1-000 | Agency Administrative Matters.
A-2 | AD23-2-000 | Customer Matters, Reliability, Security and Market Operations.
A-3 | AD23-8-000 | FERC-NERC-Regional Entity Joint Inquiry into Winter Storm Elliot.
Electric
E-1 | RM22-10-000 | Transmission System Planning Performance Requirements for Extreme Weather.
E-2 | RM22-16-000; AD21-13-000 | One-Time Informational Reports on Extreme Weather Vulnerability Assessments Climate Change, Extreme Weather, and Electric System Reliability.
E-3 | RM22-13-000 | Credit-Related Information Sharing in Organized Wholesale Electric Markets.
E-4 | ER22-2467-000; ER22-2468-000 | ISO New England Inc.
E-5 | ER22-2357-000 | ISO New England Inc.
E-6 | ER22-2363-000 | Midcontinent Independent System Operator, Inc.
E-7 | ER22-2161-001 | Golden Spread Electric Cooperative, Inc.
E-8 | ER22-2341-000 | Alabama Power Company, Georgia Power Company, and Mississippi Power Company.
E-9 | ER22-2361-000 | Puget Sound Energy, Inc.
E-10 | ER22-2292-000 | Idaho Power Company.
E-11 | ER22-2335-000 | Public Service Company of New Mexico.
E-12 | EL23-23-001 | Coalition of Eastside Neighborhoods for Sensible Energy v. Puget Sound Energy, Inc.
E-13 | EL21-3-001 | NextEra Energy Seabrook, LLC.
| EL21-6-001 | NECEC Transmission LLC and Avagrid, Inc. v. NextEra Energy Resources, LLC and NextEra Seabrook, LLC.
| EL21-94-000 (not consolidated) | ISO New England Inc.
Gas
G-1 | CP23-5-000 | Northern Indiana Public Service Company LLC.
Hydro
H-1 | P-2701-065 | Erie Boulevard Hydropower, L.P.
H-2 | P-13123-032 | Eagle Crest Energy Company.
H-3 | P-12715-014 | Fairlawn Hydroelectric Company, LLC.
H-4 | P-2318-053; P-12252-035; | Hudson River-Black River Regulating District
| P-2318-054; P-12252-036 | Erie Boulevard Hydropower, L.P.
Certificates
C-1 | CP22-44-000 | Equitrans, L.P.
C-2 | CP20-528-000; CP20-528-001; CP20-529-000 | Stingray Pipeline Company, L.L.C.
C-3 | CP16-22-007 | NEXUS Gas Transmission, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: June 8, 2023.
Debbie-Anne A. Reese,
Deputy Secretary.

[FR Doc. 2023-12738 Filed 6-9-23; 4:15 pm]

BILLING CODE 6717-01-P